DEPARTMENT OF ENERGY

Federal Energy Regulatory Commission

Combined Notice of Filings #2

Take notice that the Commission received the following exempt wholesale generator filings:

Docket Numbers: EG12-44-000.

Applicants: Diamond State Generation Partners, LLC.

Description: Notice of Self-Certification of Diamond State Generation Partners, LLC of Exempt Wholesale Generator Status.

Filed Date: 3/15/12.

Accession Number: 20120315-5038.

Comments Due: 5 p.m. ET 4/5/12.

Take notice that the Commission received the following electric rate filings:

Docket Numbers: ER11-2605-004.

Applicants: Tyr Energy LLC.

Description: Tyr Energy LLC submits tariff filing per 35: Compliance Filing—Market-Based Rate Tariff Amendment to be effective 5/14/2012.

Filed Date: 3/15/12.

Accession Number: 20120315-5090.

Comments Due: 5 p.m. ET 4/5/12.

Docket Numbers: ER12-726-001.

Applicants: Spring Valley Wind LLC.

Description: Spring Valley Wind LLC submits tariff filing per 35.17(b): Amended Application for Market-Based Rate Authority to be effective 2/28/2012.

Filed Date: 3/15/12.

Accession Number: 20120315-5089.

Comments Due: 5 p.m. ET 4/5/12.

Docket Numbers: ER12-1131-000.

Applicants: Parkview AMC Energy, LLC.

Description: Parkview AMC Energy, LLC submits tariff filing per: Supplemental Information Filing to be effective N/A.

Filed Date: 3/15/12.

Accession Number: 20120315-5040.

Comments Due: 5 p.m. ET 4/5/12.

Docket Numbers: ER12-1269-000.

Applicants: BlueRock Energy, Inc.

Description: BlueRock Energy, Inc. submits tariff filing per 35.1: Market-Based Rate Tariff Baseline to be effective 3/1/2012.

Filed Date: 3/15/12.

Accession Number: 20120315-5024.

Comments Due: 5 p.m. ET 4/5/12.

Docket Numbers: ER12-1270-000.

Applicants: Midwest Independent Transmission System Operator, Inc.

Description: Midwest Independent Transmission System Operator, Inc. submits tariff filing per 35.13(a)(2)(iii: 03-15-12 Schedule 20 to be effective 5/15/2012.

Filed Date: 3/15/12.

Accession Number: 20120315-5085.

Comments Due: 5 p.m. ET 4/5/12.

Take notice that the Commission received the following electric reliability filings:

Docket Numbers: RR12-5-000.

Applicants: North American Electric Reliability Corporation.

Description: Petition of the North American Electric Reliability Corporation for Approval of Amendments to Delegation Agreement with SERC Reliability Corporation—Amendments to SERC's Bylaws and Regional Standards Development Procedure.

Filed Date: 3/15/12.

Accession Number: 20120315-5056.

Comments Due: 5 p.m. ET 4/5/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 15, 2012.
Nathaniel J. Davis, Sr.,
Deputy Secretary.

[FR Doc. 2012-6882 Filed 3-21-12; 8:45 am]

BILLING CODE 6717-01-P